DEPARTMENT OF LABOR

Secretary's Order 09-2020—Procedures for Appointment of Individuals to Department of Labor Advisory Committees

ACTION: Notice.

1. Purpose. To provide for efficiency and flexibility in the processes by which the Secretary of Labor (“Secretary”) or the Secretary's designee select and appoint individuals to advisory committees within the Department of Labor (“Department”).

2. Authorities and Directives Affected.

A. Authorities. This Order is issued pursuant to the following authorities:

1. 29 U.S.C. 551 et seq.;

2. 5 U.S.C. 301-02; and

3. 5 U.S.C. app. 2, 1-15.

B. Directives Affected. Secretary's Order 04-2018 is hereby cancelled.

3. Definitions.

“Committee” refers to any advisory committee, committee, board, task force, or working group to which the Secretary or the Secretary's designee appoints individuals subject to the Federal Advisory Committee Act, and these bodies' subcommittees. This Order does not apply to internal committees, boards, task forces, or working groups, or to purely interagency committees, boards, task forces, or working groups.

4. Background.

The Secretary or the Secretary's designee has the authority and responsibility to appoint members of Committees that provide information, expertise, and recommendations to Department agencies. The formation of Committees and the selection of their membership are governed in detail by the Department of Labor Manual Series. Secretary's Order 04-2018 established new, additional procedures for the selection and appointment of Committee members. These procedures included specific requirements regarding the content of vacancy notices, screening procedures, the composition and number of employees involved in recommending selections, and various procedures governing recommendations and appointments by agency heads, the Deputy Secretary, and the Secretary. While the Department has a strong interest in obtaining disinterested expert advice from its Committees, after two years, the Department has determined these new procedures on balance are unnecessary and inefficient.

The Department's Committees vary widely in the issues on which they advise the Department and the qualifications required of their members. The processes by which Committee members are selected should reflect the differing needs and priorities associated with each Committee and be proportionate to them. Accordingly, this Order rescinds Secretary's Order 04-2018. Appointments previously made under Secretary's Order 04-2018 are unaffected by this Order.

5. Responsibilities.

A. The Deputy Secretary is responsible for issuing written guidance, as necessary, to implement this Order.

B. The Committee Management Officer (CMO), as required by § 8(b) of the Federal Advisory Committee Act, is responsible for coordinating all Federal Advisory Committee activities with DOL agencies. The CMO is an employee of the Office of the Executive Secretariat.

C. The Assistant Secretary for Administration and Management, in consultation with the Deputy Secretary, Solicitor of Labor, and the Committee Management Officer, is responsible for maintaining internal Department guidance related to the selection and appointment of members to Committees.

D. The Solicitor of Labor is responsible for providing legal advice to the Department on all matters arising in the implementation and administration of this Order.

6. Privacy. This Order is subject to the applicable laws, regulations, and procedures concerning the privacy of applicants to Committees.

7. Controlling Law; Administrative Matters. The requirements of this Order are intended to be general in nature, and accordingly shall be construed and implemented to be consistent with more specific requirements of any statute, Executive Order, or other law governing the composition of a particular Committee. If a conflict arises, the specific statute, Executive Order, or other law shall govern.

8. Redelegation of Authority. Except as otherwise provided by law, all authorities delegated in this Order may be redelegated to serve the purposes of this Order.

9. Effective Date. This order is effective immediately.

Signed in Washington, DC, this 8th day of September, 2020.
Eugene Scalia,
Secretary of Labor.

[FR Doc. 2020-20603 Filed 9-17-20; 8:45 am]

BILLING CODE 4510-HL-P